DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Vessel Monitoring Program for the Pacific Coast Groundfish Fishery.

Form Number(s): None.

OMB Approval Number: 0648-0478.

Type of Request: Regular submission.

Burden Hours: 7,890.

Number of Respondents: 723.

Average Hours per Response: 4 hours to install a VMS; 4 hours per year to maintain a VMS; 5 seconds for an automated position report; 5 minutes to complete and fax a check-in report or to complete an exemption report; 4 minutes for a declaration report.

Needs and Uses: The National Oceanic and Atmospheric Administration (NOAA) has established large irregularly-based rockfish conservation areas off the coasts of Washington, Oregon, and California. In order to allow fishing in or near these areas that does not threaten the conservation objectives, NOAA needs methods to effectively enforce restrictions on the location of fishing and the gear used. NOAA requires certain vessels to install a vessel monitoring system (VMS) that automatically gives hourly position reports. Inactive vessels or vessels fishing outside the monitored area can request an exemption from the automatic reporting requirement. Certain vessels would also be required to declare what gear will be used.

Affected Public: Business or other for-profit organizations; individuals or households.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, fax number (202) 395-7285, or David_Rostker@omb.eop.gov.

Dated: September 28, 2006.
Gwellnar Banks,
Management Analyst, Office of the Chief Information Officer.

[FR Doc. E6-16328 Filed 10-3-06; 8:45 am]

BILLING CODE 3510-22-P